DEPARTMENT OF COMMERCE

International Trade Administration

[A-475-836, A-580-891, A-469-816, A-489-831, A-412-826]

Carbon and Alloy Steel Wire Rod From Italy, the Republic of Korea, Spain, Turkey, and the United Kingdom: Postponement of Final Determinations of Less-Than-Fair-Value Investigation and Extension of Provisional Measures

AGENCY: Enforcement and Compliance, International Trade Administration, Department of Commerce.

SUMMARY: The Department of Commerce (the Department) is postponing the deadline for issuing the final determinations in the less-than-fair-value (LTFV) investigations of carbon and alloy steel wire rod (wire rod) from Italy, the Republic of Korea (Korea), Spain, Turkey, and the United Kingdom (the UK) until no later than March 15, 2018, and is extending the provisional measures from a four-month period to a period of not more than six months. As the deadline for the final determinations of the countervailing duty (CVD) investigations of wire rod from Italy and Turkey have been aligned with the deadline for the final determinations of the LTFV investigations, the final CVD determinations shall also be postponed.

DATES: Applicable November 7, 2017.

FOR FURTHER INFORMATION CONTACT: Victoria Cho (Italy) at 202-482-5075, Lingjun Wang (Korea) at 202-482-2316, Davina Freidmann (Spain) at 202-482-0698, Ryan Mullen (Turkey) at 202-482-5260, or Alice Maldonado (the UK) at 202-482-4682, AD/CVD Operations, Enforcement and Compliance, International Trade Administration, U.S. Department of Commerce, 1401 Constitution Avenue NW., Washington, DC 20230.

SUPPLEMENTARY INFORMATION:

Background

On April 26, 2017, the Department of Commerce (the Department) published the notice of initiation of the LTFV investigations of imports of wire rod from Italy, Korea, Spain, Turkey, and the UK in the Federal Register.¹ The period of investigations is January 1, 2016, through December 31, 2016, for the CVD investigations on imports from Italy and Turkey as well as for the LTFV investigations on imports from Italy, Korea, Spain, Turkey, and the UK. On September 5, 2017, and October 31, 2017, respectively, the Department published its preliminary determinations in the CVD and LTFV investigations.² On September 18, 2017, the Department aligned the final deadline for the CVD investigations with the final determination of the LTFV investigations.³

¹ See Carbon and Alloy Steel Wire Rod from Belarus, Italy, the Republic of Korea, the Russian Federation, South Africa, Spain, the Republic of Turkey, Ukraine, United Arab Emirates, and United Kingdom: Initiation of Less-Than-Fair-Value Investigations, 82 FR 19207 (April 26, 2017) (LTFV Initiation Notice).

² See Carbon and Alloy Steel Wire Rod from Italy: Preliminary Affirmative Countervailing Duty Determination, 82 FR 41931 (September 5, 2017); Carbon and Alloy Steel Wire Rod from the Republic of Turkey: Preliminary Affirmative Countervailing Duty Determination and Preliminary Affirmative Critical Circumstances Determination, in Part, 82 FR 41929 (September 5, 2017) (collectively CVD Preliminary Determinations). See also, Carbon and Alloy Steel Wire Rod from Italy: Preliminary Affirmative Determination of Sales at Less Than Fair Value, 82 FR 50381 (October 31, 2017); Carbon and Alloy Steel Wire Rod from the Republic of Korea: Preliminary Affirmative Determination of Sales at Less Than Fair Value, and Preliminary Negative Determination of Critical Circumstance, 82 FR 50386 (October 31, 2017); Carbon and Alloy Steel Wire Rod from Spain: Preliminary Affirmative Determination of Sales at Less Than Fair Value and Preliminary Determination of Critical Circumstance, in Part, 82 FR 50389 (October 31, 2017); Carbon and Alloy Steel Wire Rod from Turkey: Preliminary Affirmative Determination of Sales at Less Than Fair Value, and Preliminary Negative Determination of Critical Circumstance, 82 FR 50377 (October 31, 2017); and Carbon and Alloy Steel Wire Rod from the United Kingdom: Preliminary Affirmative Determination of Sales at Less Than Fair Value and Preliminary Determination of Critical Circumstance, 82 FR 50394 (October 31, 2017).

³ See Carbon and Alloy Steel Wire Rod from Italy and Turkey: Alignment of Final Countervailing Duty Determinations With Final Antidumping Duty Determinations, 82 FR 43516 (September 18, 2017).

Postponement of Final LTFV Determinations and Aligned Final CVD Determinations

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

Between September 14, 2017, and October 10, 2017, Ferriere Nord S.p.A. (Ferriere Nord); POSCO; Global Steel Wire SA (GSW), CELSA Atlantic SA (CELSA Atlantic) and Compania Espanola de Laminacion (CELSA Barcelona) (collectively, CELSA); Habas Sinai ve Tibbi Gazlar Istihsal Endustrisi A.S. (Habas); Icdas Celik Enerji Tersane ve Ulasim Sanayi A.S. (Icdas); and British Steel Limited (British Steel), mandatory respondents in these investigations, requested that the Department fully extend the deadline for the final LTFV determinations, and extend the application of the provisional measures from a four-month period to a period of not more than six months.⁴

⁴ See Letters from Ferriere Nord, POSCO, CELSA, Habas, Icdas, and British Steel dated September 19, 2017, October 10, 2017, October 10, 2017, September 28, 2017, September 14, 2017, and September 18, 2017, respectively.

On October 27, 2017, Gerdau Ameristeel US Inc., Nucor Corporation, Keystone Consolidated Industries, Inc., and Charter Steel (collectively, the Petitioners), requested that the Department grant the requests of the respondents in these investigations and fully extend the deadline for the final LTFV determinations.⁵

⁵ See Letters from the Petitioners dated October 27.

In accordance with section 735(a)(2)(A) of the Act and 19 CFR 351.210(b)(2)(ii), because: (1) The preliminary determination was affirmative; (2) the request was made by the exporters and producers who account for a significant proportion of exports of the subject merchandise; and (3) no compelling reasons for denial exist, the Department is postponing the final determinations until no later than 135 days after the date of the publication of of the LTFV Preliminary Determinations, and extend the provisional measures from a four-month period to a period of not more than six months. Because the CVD investigations covering Italy and Turkey are aligned with the LTFV investigations as noted above, the Department will issue its final determinations in the CVD and LTFV investigations no later than March 15, 2018.

This notice is issued and published pursuant to 19 CFR 351.210(g).

Dated: November 1, 2017.
Gary Taverman,
Deputy Assistant Secretary for Antidumping and Countervailing Duty Operations, performing the non-exclusive functions and duties of the Assistant Secretary for Enforcement and Compliance.

[FR Doc. 2017-24175 Filed 11-6-17; 8:45 am]

BILLING CODE 3510-DS-P